DEPARTMENT OF HEALTH AND HUMAN SERVICES

Administration for Children and Families

Submission for OMB Review; Comment Request

Title: Child Care Quarterly Case Record Report—ACF-801.

OMB No.: 0970-0167.

Description: Section 658K of the Child Care and Development Block Grant (CCDBG) Act (42 U.S.C. 9858, as amended by Pub. L. 113-186) requires that States and Territories submit monthly case-level data on the children and families receiving direct services under the Child Care and Development Fund (CCDF). The implementing regulations for the statutorily required reporting are at 45 CFR 98.70 and 98.71. Case-level reports, submitted quarterly or monthly (at grantee option), include monthly sample or full population case-level data. The data elements to be included in these reports are represented in the ACF-801. ACF uses disaggregate data to determine program and participant characteristics as well as costs and levels of child care services provided. This provides ACF with the information necessary to make reports to Congress, address national child care needs, offer technical assistance to grantees, meet performance measures, and conduct research.

Consistent with the recent reauthorization of the CCDBG statute, ACF requests extension of the ACF-801 including a number of changes and clarifications to the reporting requirements and instructions as set forth below.

• Homeless Status: Section 658K(a)(1)(B)(xi) of the CCDBG Act now requires States to report whether children receiving assistance under this subchapter are homeless children. Specifically, this data element will be required with the reporting period beginning October 2015.

• Child Disability: ACF proposes to add a new data element effective October 2016 indicating whether or not each child receiving services is a child with a disability, in part to track State implementation of priority for services requirements at section 658E(c)(3)(B) of the CCDBG Act (which includes children with special needs as defined by the State).

• Military Status: ACF proposes to add a new data element effective October 2016 to the ACF-801 to determine the family's status related to military service.

• Family Zip Code and Provider Zip Code: ACF proposes to add zip codes effective October 2016 to both the family and the provider records to identify the communities where CCDF families and providers are located, in part to support implementation of sections 658E(a)(2)(M) and 658E(a)(2)(Q) of the CCDBG Act that require States to address the supply and access to high-quality child care services for certain areas and populations.

• Quality of Child Care Providers: The existing ACF-801 allows States several ways of reporting information on the quality of each child's provider(s)—including: Quality Rating and Improvement System (QRIS) participation and rating, accreditation status, State pre-K standards, and other State-defined quality measure. To date, States have been required to report on at least one of the quality elements for a portion of the provider population. ACF is proposing that, effective with the October 2017 report, States must report quality information for every child care provider. States with a QRIS, at a minimum, would be required to report QRIS participation and rating for every provider. States without QRIS would be required to report quality information for every provider using one or more of the quality elements on the form. ACF is proposing to add a new option to indicate whether or not the provider is subject to Head Start or Early Head Start standards.

• Inspection Date: Section 658E(c)(2)(J) of the reauthorized CCDBG Act requires States to monitor both licensed and license-exempt CCDF providers. ACF proposes to add a data element effective October 2017 indicating, for each child care provider delivering services to a CCDF child, the date of the most recent inspection for compliance with health, safety, and fire standards (including licensing standards for licensed providers).

• Personally Identifiable Information: Section 658K(a)(1)(E) of the CCDBG Act now prohibits the ACF-801 report from containing personally identifiable information. As a result, ACF proposes to delete Social Security Numbers (SSNs) from the report. Specifically, this change will be required with the reporting period beginning October 2015. Note that the form will still require a unique identifying number, other than the SSN, that is assigned by the State for each family.

• Language: ACF proposes to add a data element effective October 2016 indicating, the primary language spoken in the home consistent with a Head Start Program Information Report question, i.e., Primary Language of Family at Home.

Respondents: States, the District of Columbia, and Territories including Puerto Rico, Guam, the Virgin Islands, American Samoa, and the Northern Marianna Islands.

Annual Burden Estimates
Instrument | Number of respondents | Number of responses per respondent | Average burden hours per response | Total burden hours
ACF-801 | 56 | 4 | 25 | 5,600

Estimated Total Annual Burden Hours: 5,600.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV. Attn: Desk Officer for the Administration for Children and Families.

Robert Sargis,
Reports Clearance Officer.

[FR Doc. 2015-23022 Filed 9-11-15; 8:45 am]

BILLING CODE 4184-01-P